DEPARTMENT OF COMMERCE

Patent and Trademark Office

[Docket No.: PTO-P-2023-0043]

Inventorship Guidance for AI-Assisted Inventions

AGENCY: United States Patent and Trademark Office, Department of Commerce.

ACTION: Examination guidance; reopening of comment period.

SUMMARY: The United States Patent and Trademark Office (USPTO) is reopening the comment period, which ended on May 13, 2024, for the guidance titled “Inventorship Guidance for AI-Assisted Inventions” that was published in the Federal Register on February 13, 2024.

DATES: The comment period for the guidance published on February 13, 2024, at 89 FR 10043, is reopened until June 20, 2024. Written comments must be received on or before June 20, 2024. The USPTO will also treat as timely any comments received between May 13, 2024, and the publication date of this notice.

ADDRESSES: Comments must be submitted through the Federal eRulemaking Portal at www.regulations.gov. To submit comments via the portal, enter docket number PTO-P-2023-0043 on the homepage and select “Search.” The site will provide a search results page listing all documents associated with this docket. Find a reference to this document and select the “Comment” icon, complete the required fields, and enter or attach your comments. Attachments to electronic comments will be accepted in Adobe® portable document format (PDF) and Microsoft Word® format. Because comments will be made available for public inspection, information the submitter does not desire to make public, such as an address or phone number, should not be included in the comments.

Visit the Federal eRulemaking Portal for additional instructions on providing comments via the portal. If electronic submission of comments is not feasible due to a lack of access to a computer and/or the internet, please contact the USPTO using the contact information at the FOR FURTHER INFORMATION CONTACT section for special instructions.

FOR FURTHER INFORMATION CONTACT: Matthew Sked, Senior Legal Advisor, at 571-272-7627; or Nalini Mummalaneni, Senior Legal Advisor, at 571-270-1647, both with the Office of Patent Legal Administration, Office of the Deputy Commissioner for Patents.

SUPPLEMENTARY INFORMATION: On February 13, 2024, the USPTO published guidance titled “Inventorship Guidance for AI-Assisted Inventions,” to provide clarity for USPTO stakeholders and personnel, including the Central Reexamination Unit and the Patent Trial and Appeal Board, on how the USPTO will analyze inventorship issues now that artificial intelligence (AI) systems, including generative AI, are playing a greater role in the innovation process (89 FR 10043, February 13, 2024). After the comment period for the guidance closed, the USPTO became aware of some continued stakeholder interest in submitting comments on the guidance. Therefore, the USPTO is reopening the written comment period for the guidance to ensure that all stakeholders have a sufficient opportunity to submit comments. The USPTO will also treat as timely any comments received between the original comment period deadline of May 13, 2024, and the publication date of this notice.

Katherine K. Vidal,
Under Secretary of Commerce for Intellectual Property and Director of the United States Patent and Trademark Office.

[FR Doc. 2024-12429 Filed 6-5-24; 8:45 am]

BILLING CODE 3510-16-P